DEPARTMENT OF VETERANS AFFAIRS

[OMB Control No. 2900-NEW]

Agency Information Collection Activity: Servicemembers' Group Life Insurance—Spouse Coverage (FSGLI) Election and Certificate Form

AGENCY: Veterans Benefits Administration, Department of Veterans Affairs.

ACTION: Notice.

SUMMARY: Veterans Benefits Administration, Department of Veterans Affairs (VA), is announcing an opportunity for public comment on the proposed collection of certain information by the agency. Under the Paperwork Reduction Act (PRA) of 1995, Federal agencies are required to publish notice in the Federal Register concerning each proposed new collection of information and allow 60 days for public comment in response to the notice.

DATES: Written comments and recommendations on the proposed collection of information should be received on or before December 4, 2023.

ADDRESSES: Submit written comments on the collection of information through Federal Docket Management System (FDMS) at www.Regulations.gov or to Nancy J. Kessinger, Veterans Benefits Administration (20M33), Department of Veterans Affairs, 810 Vermont Avenue NW, Washington, DC 20420 or email to nancy.kessinger@va.gov Please refer to “OMB Control No. 2900-NEW” in any correspondence. During the comment period, comments may be viewed online through FDMS.

FOR FURTHER INFORMATION CONTACT: Maribel Aponte, Office of Enterprise and Integration, Data Governance Analytics (008), 810 Vermont Ave. NW, Washington, DC 20006, (202) 266-4688 or email maribel.aponte@va.gov. Please refer to “OMB Control No. 2900-NEW” in any correspondence.

SUPPLEMENTARY INFORMATION: Under the PRA of 1995, Federal agencies must obtain approval from the Office of Management and Budget (OMB) for each collection of information they conduct or sponsor. This request for comment is being made pursuant to section 3506(c)(2)(A) of the PRA.

With respect to the following collection of information, VBA invites comments on: (1) whether the proposed collection of information is necessary for the proper performance of VBA's functions, including whether the information will have practical utility; (2) the accuracy of VBA's estimate of the burden of the proposed collection of information; (3) ways to enhance the quality, utility, and clarity of the information to be collected; and (4) ways to minimize the burden of the collection of information on respondents, including through the use of automated collection techniques or the use of other forms of information technology.

Authority: Public Law 104-13; 44 U.S.C. 3501-3521.

Title: Service Members' Group Life Insurance—Spouse Coverage (FSGLI) Election and Certification Form SGLV 8286A.

OMB Control Number: 2900-NEW.

Type of Review: New collection.

Abstract: Family Servicemembers' Group Life Insurance (FSGLI) provides insurance coverage to spouses of Servicemember's Group Life Insurance (SGLI) insured individuals. SGLI and all associated insurance programs are VA benefits. The SGLV 8286A form is used by Service Members and their spouses when the Service Member is unable to access their Servicemembers Group Life Insurance Online Enrollment System (SOES) account to electronically elect, increase, decrease or decline coverage. If the member is increasing or electing coverage on their spouse after prior declination or reduction and the spouse has health issues, the member's uniformed service reviews the request and sends to the primary insurer for the SGLI program, The Prudential Insurance Company of America (Prudential), through its' Office of Servicemembers' Group Life Insurance (OSGLI), to underwrite and make a decision on coverage. This form ensures members, and their spouses can continue to use the form to manage their FSGLI spousal benefits.

Affected Public: Individuals and households.

Estimated Annual Burden: 267 hours.

Estimated Average Burden per Respondent: 10 minutes.

Frequency of Response: One time.

Estimated Number of Respondents: 1,600.

By direction of the Secretary.
Maribel Aponte,
VA PRA Clearance Officer, Office of Enterprise and Integration/Data Governance Analytics, Department of Veterans Affairs.

[FR Doc. 2023-21800 Filed 10-2-23; 8:45 am]

BILLING CODE 8320-01-P